DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on May 18, 2004. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, P.O. Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period are necessary.

Factors considered in making such a determination shall include, but are not limited to (i) the significance of the modification, and (ii) the degree of public interest which has been expressed over the course of the negotiations. At a minimum, the regional director shall furnish revised contracts to all parties who requested the contract in response to the initial public notice.

The February 27, 2004, notice should be used as a reference point to identify changes. The numbering system in this notice corresponds with the numbering system in the February 27, 2004, notice.

Definitions of Abbreviations Used in This Document

BCP—Boulder Canyon Project

Reclamation—Bureau of Reclamation

CAP—Central Arizona Project

CVP—Central Valley Project

CRSP—Colorado River Storage Project

FR—Federal Register

IDD—Irrigation and Drainage District

ID—Irrigation District

M&I—Municipal and Industrial

NMISC—New Mexico Interstate Stream Commission

O&M—Operation and Maintenance

P-SMBP—Pick-Sloan Missouri Basin Program

PPR—Present Perfected Right

SOD—Safety of Dams

WD—Water District

Pacific Northwest Region: Bureau of Reclamation, 1150 North Curtis Road, Suite 100, Boise, Idaho 83706-1234, telephone 208-378-5223.

Discontinued contract action:

5. Bridgeport ID, Chief Joseph Dam Project, Washington: Warren Act contract for the use of an irrigation outlet in Chief Joseph Dam.

Completed contract action:

13. Fremont-Madison ID, Minidoka Project, Idaho-Wyoming: Repayment contract for reimbursable cost of SOD modifications to Grassy Lake Dam. Contract executed on June 7, 2004.

Mid-Pacific Region: Bureau of Reclamation, 2800 Cottage Way, Sacramento, California 95825-1898, telephone 916-978-5250.

New contract action:

40. Plain View WD, CVP, California: Reorganization and proposed full contract assignment of Plain View WD's CVP supply to Byron-Bethany ID.

Modified contract action:

28. Sacramento River Settlement Contracts, CVP, California: Up to 145 contracts and one contract with Colusa Drain Mutual Water Company will be renewed; water quantities for these contracts total 2.2M acre-feet. These contracts will be renewed for a period of 40 years. The contracts will reflect an agreement to settle the dispute over water rights' claims on the Sacramento River and the Colusa Basin Drain.

Lower Colorado Region: Bureau of Reclamation, P.O. Box 61470 (Nevada Highway and Park Street), Boulder City, Nevada 89006-1470, telephone 702-293-8536.

New contract action:

48. Mr. and Mrs. West, BCP, California: Assignment of contract No. 6-07-30-W0342 from Mr. and Mrs. West to Ronald E. and Shannon L. Williamson.

Completed contract actions:

20. Phelps Dodge Miami, Inc., CAP, Arizona: Amendment of subcontract to extend the deadline for giving notice of termination on exchange.

47. Cortaro-Marina ID, CAP, Arizona: Agreement with Reclamation and Arizona municipalities concerning the operation of a managed effluent recharge facility in the Santa Cruz River Channel.

Upper Colorado Region: Bureau of Reclamation, 125 South State Street, Room 6107, Salt Lake City, Utah 84138-1102, telephone 801-524-3864.

New contract actions:

25. Central Utah Water Conservancy District, Bonneville Unit, Central Utah Project, Utah: Negotiate a repayment contract for 60,000 acre-feet per year of M&I water from the Utah Lake System.

26. Carlsbad ID and NMISC, Carlsbad Project, New Mexico: Contract for storage and delivery of water produced by NMISC's River Augmentation Program, among Reclamation, Carlsbad ID, and NMISC. This will allow for storage of NMISC water in project facilities resulting in additional project water supply.

27. South Cache Water Users Association, Hyrum Project, Utah: Contract for repayment of 15 percent of SOD costs at Hyrum Dam.

Discontinued contract action:

4. Upper Gunnison River Water Conservancy District, Aspinall Unit, CRSP, Colorado: Long-term water service contract for up to 25,000 acre-feet for irrigation use.

Completed contract actions:

1.(b) Upper Gunnison Water Conservancy District, Aspinall Unit, CRSP, Colorado: A 40-year contract for 500 acre-feet of M&I water to support the District's plan of augmentation for non-agricultural water uses within the District. The 500 acre-feet of water is to be resold by the District under third-party contracts approved by Reclamation, to water users located with the District's boundaries. Contract executed on April 1, 2004.

1.(c) Hawk Haven LLC, Aspinall Unit, CRSP: Hawk Haven LLC has requested a 40-year water service contract for 1 acre-foot of water out of Blue Mesa Reservoir to support its plan of augmentation, case No. 03WC091, District Court, Water Division 4. Contract executed March 11, 2004.

1.(d) Robert V. Ketchum, Aspinall Unit, CRSP: Robert V. Ketchum has requested a 40-year water service contract for 1 acre-foot water out of Blue Mesa Reservoir to support his plan of augmentation, case No. 02WC252, District Court, Water Division 4. Contract executed March 11, 2004.

Great Plains Region: Bureau of Reclamation, P.O. Box 36900, Federal Building, 316 North 26th Street, Billings, Montana 59107-6900, telephone 406-247-7790.

New contract actions:

42. Hill County WD, Milk River Project, Montana: Initiating renewal of municipal water contract No. 14-06-600-8954 which expires August 1, 2006.

43. East Bench ID, East Bench Unit, P-SMBP, Montana: The District requested a deferment of its 2004 distribution works repayment obligation. A request is being prepared to amend contract No. 14-06-600-3593 to defer payments in accordance with the Act of September 21, 1959.

44. Stutsman County Park Board, Jamestown Unit, P-SMBP, North Dakota: The Board is requesting a contract for minor amounts of water under a long-term contract to serve domestic needs for cabin owners at Jamestown Reservoir, North Dakota.

45. City of Huron, P-SMBP, South Dakota: Renewal of long-term operation, maintenance, and replacement agreement for O&M of the James Diversion Dam, South Dakota.

46. Tom Green County Water Control and Improvement District No. 1, San Angelo Project, Texas: Public Law 108-231, dated May 28, 2004, authorized the Secretary of the Interior to extend the repayment period for the District from 40 to 50 years. A public notice will be published in the San Angelo Times, and a BON will be prepared to amend the District's repayment contract No. 14-06-500-369, to extend the repayment period and revise the repayment schedule.

47. Garrison Diversion Unit, P-SMBP, North Dakota: Contracts to provide for project use pumping power or project use pumping power and supplemental irrigation water with various irrigation districts in North Dakota, covering a combined maximum 28,000 acres within the boundaries and limits set by the Dakota Water Resources Act of 2000.

48. Security Water and Sanitation District, Fryingpan-Arkansas Project, Colorado: Consideration of a request for a long-term contract for the use of excess capacity in the Fryingpan-Arkansas Project.

Modified contract actions:

20. Glendo Unit, P-SMBP, Wyoming: Contract renewal for long-term water service contracts with Burbank Ditch, New Grattan Ditch Company, Torrington ID, Lucerne Canal and Power Company, and Wright and Murphy Ditch Company.

21. Glendo Unit, P-SMBP, Nebraska: Contract renewal for long-term water service contracts with Bridgeport, Enterprise, and Mitchell IDs, and Central Nebraska Public Power and ID.

Dated: June 24, 2004.
Roseann Gonzales,
Director, Office of Program and Policy Services.

[FR Doc. 04-16913 Filed 7-23-04; 8:45 am]

BILLING CODE 4310-MN-P